DEPARTMENT OF ENERGY

Federal Energy Regulatory Commission

Combined Notice of Filings #1

Take notice that the Commission received the following electric rate filings:

Docket Numbers: ER00-1-005.

Applicants: Cross-Sound Cable Company, LLC.

Description: Notice of Non-Material Change in Status of Cross-Sound Cable Company, LLC.

Filed Date: 9/21/15.

Accession Number: 20150921-5246.

Comments Due: 5 p.m. ET 10/13/15.

Docket Numbers: ER12-2068-008; ER15-1471-001; ER10-2460-008; ER10-2461-008; ER12-682-009; ER10-2463-008; ER15-1672-001; ER11-2201-012; ER10-2464-005; ER13-1139-011; ER13-1585-005; ER10-2465-004; ER11-2657-005; ER13-17-006; ER14-2630-004; ER12-1311-008; ER10-2466-009; ER11-4029-008; ER12-2205-005; ER12-2159-004; ER10-1821-009; ER12-919-003.

Applicants: Blue Sky East, LLC, Blue Sky West, LLC, Canandaigua Power Partners, LLC, Canandaigua Power Partners II, LLC, Erie Wind, LLC, Evergreen Wind Power, LLC, Evergreen Wind Power II, LLC, Evergreen Wind Power III, LLC, First Wind Energy Marketing, LLC, Imperial Valley Solar 1, LLC, Longfellow Wind, LLC, Milford Wind Corridor Phase I, LLC, Milford Wind Corridor Phase II, LLC, Niagara Wind Power, LLC, Regulus Solar, LLC, Stetson Holdings, LLC, Stetson Wind II, LLC, Vermont Wind, LLC, Meadow Creek Project Company LLC, Canadian Hills Wind, LLC, Goshen Phase II LLC, Rockland Wind Farm LLC.

Description: Supplement to July 27, 2015 Notice of Change in Status of Blue Sky East, LLC, et. al.

Filed Date: 9/21/15.

Accession Number: 20150921-5220.

Comments Due: 5 p.m. ET 10/13/15.

Docket Numbers: ER14-1317-004; ER11-2041-007; ER11-2042-007; ER10-3193-007; ER10-2964-009; ER10-2924-007; ER10-2480-006; ER10-2959-007; ER10-2961-006; ER10-2934-006; ER12-281-008; ER10-3099-013; ER13-821-008; ER10-2950-006; ER14-2500-002; ER14-2498-002; ER10-2615-007; ER11-2335-008; ER10-2538-004.

Applicants: Sunshine Gas Producers, LLC, Innovative Energy Systems, LLC, Seneca Energy II, LLC, Brooklyn Navy Yard Cogeneration Partners, L.P., Selkirk Cogen Partners, L.P., Kleen Energy Systems, LLC, Berkshire Power Company, LLC, Chambers Cogeneration, Limited Partnership, Edgecombe Genco, LLC, Logan Generating Company, L.P., Northampton Generating Company, L.P., RC Cape May Holdings, LLC, Scrubgrass Generating Company, L.P., Spruance Genco, LLC, Newark Energy Center, LLC, EIF Newark, LLC, Plum Point Energy Associates, LLC, Plum Point Services Company, LLC, Panoche Energy Center, LLC.

Description: Notice of Non-Material Change in Status of Sunshine Gas Producers, LLC, et. al.

Filed Date: 9/22/15.

Accession Number: 20150922-5063.

Comments Due: 5 p.m. ET 10/13/15.

Docket Numbers: ER14-1470-004.

Applicants: Midcontinent Independent System Operator, Inc., Ameren Illinois Company.

Description: Compliance filing: 2015-09-21_SA 2645 Compliance Ameren-White Oak Facilities Service Agreement to be effective 5/11/2014.

Filed Date: 9/21/15.

Accession Number: 20150921-5209.

Comments Due: 5 p.m. ET 10/13/15.

Docket Numbers: ER15-2160-001.

Applicants: Crystal Lake Wind II, LLC.

Description: Compliance filing: Amendment to Crystal Lake Wind II, LLC Order No. 784 Compliance Filing to be effective 7/11/2015.

Filed Date: 9/21/15.

Accession Number: 20150921-5197.

Comments Due: 5 p.m. ET 10/13/15.

Docket Numbers: ER15-2161-001.

Applicants: Crystal Lake Wind III, LLC.

Description: Compliance filing: Amendment to Crystal Lake Wind III, LLC Order No. 784 Compliance Filing to be effective 7/11/2015.

Filed Date: 9/21/15.

Accession Number: 20150921-5201.

Comments Due: 5 p.m. ET 10/13/15.

Docket Numbers: ER15-2681-000.

Applicants: White Oak Energy LLC.

Description: Compliance filing: White Oak Energy LLC Order No. 784 Revisions to be effective 7/11/2015.

Filed Date: 9/21/15.

Accession Number: 20150921-5191.

Comments Due: 5 p.m. ET 10/13/15.

Docket Numbers: ER15-2682-000.

Applicants: Pacific Gas and Electric Company.

Description: Tariff Cancellation: Notice of Termination NCPA IA SA 17 to be effective 10/31/2015.

Filed Date: 9/22/15.

Accession Number: 20150922-5002.

Comments Due: 5 p.m. ET 10/13/15.

Docket Numbers: ER15-2683-000.

Applicants: Pacific Gas and Electric Company.

Description: § 205(d) Rate Filing: Biggs Interruptible Wholesale Distribution Service and IA (RS 246) to be effective 11/1/2015.

Filed Date: 9/22/15.

Accession Number: 20150922-5005.

Comments Due: 5 p.m. ET 10/13/15.

Docket Numbers: ER15-2684-000.

Applicants: Pacific Gas and Electric Company.

Description: § 205(d) Rate Filing: NCPA Replacement IA and Related TFAs Filing (SA 292) to be effective11/1/2015.

Filed Date: 9/22/15.

Accession Number: 20150922-5006.

Comments Due: 5 p.m. ET 10/13/15.

Docket Numbers: ER15-2685-000.

Applicants: PJM Interconnection, L.L.C.

Description: § 205(d) Rate Filing: First Revised Interconnection Service Agreement No. 3604 Queue No. W4-009/X4-005 to be effective 11/4/2014.

Filed Date: 9/22/15.

Accession Number: 20150922-5055.

Comments Due: 5 p.m. ET 10/13/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 22, 2015.
Nathaniel J. Davis, Sr.,
Deputy Secretary.

[FR Doc. 2015-24530 Filed 9-25-15; 8:45 am]

BILLING CODE 6717-01-P